DEPARTMENT OF THE INTERIOR

Bureau of Land Management

[OR 120 5882 CD99; HAG# 0085]

Notice of Public Meeting, Coos Bay Resource Advisory Committee Meeting

AGENCY: Bureau of Land Management, Interior.

ACTION: Notice of Bureau of Land Management (BLM) Coos Bay District Resource Advisory Committee (RAC) meeting as identified in Section 205(f)(2) of the Secure Rural Schools and Community Self-Determination Act of 2000, Public Law 106-393.

SUMMARY: The BLM Coos Bay District RAC is scheduled to meet on March 13, 2006 from 9 a.m. until 12 p.m. at the BLM Coos Bay District Office. The BLM Office is located at 1300 Airport Lane in North Bend, Oregon. The purpose of this meeting will be for the RAC review previous fiscal years' accomplishments and budget expenditures. The election of the BLM Coos Bay District RAC Chair and Vice-chair will also occur at this meeting. There will be an opportunity for the public to address the BLM Coos Bay District RAC at approximately 10:30 a.m.

FOR FURTHER INFORMATION CONTACT: Mark Johnson, BLM Coos Bay District Manager, at (541) 756-0100 or Glenn Harkleroad, District Restoration Coordinator, at (541) 751-4361 or glenn_harkleroad@or.blm.gov. The mailing address for the BLM Coos Bay District Office is 1300 Airport Lane, North Bend, Oregon 97459.

Dated: March 1, 2006.
M. Elaine Raper,
Acting Coos Bay District Manager.

[FR Doc. E6-3428 Filed 3-9-06; 8:45 am]

BILLING CODE 4310-33-P